DEPARTMENT OF COMMERCE

[I.D. 102303A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southeast Region Logbook Family of Forms.

Form Number(s): None.

OMB Approval Number: 0648-0016.

Type of Request: Regular submission.

Burden Hours: 13,084.

Number of Respondents: 4,783.

Average Hours Per Response: 18 minutes for a headboat survey; 10 minutes for a logbook in the golden crab, reef fish-mackerel, or wreckfish fisheries; 18 minutes for a log for Columbian Treaty Waters; 15 minutes for a logbook for aquacultured live rock; 10 minutes for an economic trip-cost report; 30 minutes for an annual fixed cost report; and 15 minutes for a supplemental discard report.

Needs and Uses: The catch and effort data are needed for scientific analyses that support critical conservation and management decisions that are made by national and international fishery management agencies. In addition, biologist need data on the amount of fish, marine mammals, and sea turtles are caught or interacted with. This family of forms also includes the collection of cost-earning information and discards reported by fishermen.

Affected Public: Business or other for-profit organizations, individuals or households.

Frequency: By trip, annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number 202-395-7285, or David_Rostker@omb.eop.gov.

Dated: October 23, 2003.
Gwellnar Banks,
Management Analyst, Office of the Chief Information Officer.

[FR Doc. 03-27252 Filed 10-28-03; 8:45 am]

BILLING CODE 3510-22-S